DEPARTMENT OF DEFENSE

Office of the Secretary

Federal Advisory Committee; Army Education Advisory Committee; Charter Renewal

AGENCY: Department of Defense (DoD).

ACTION: Renewal of Federal advisory committee.

SUMMARY: Under the provisions of the Federal Advisory Committee Act of 1972, (5 U.S.C. Appendix), the Government in the Sunshine Act of 1976 (5 U.S.C. 552b), and 41 CFR 102-3.50, the Department of Defense gives notice that it is renewing the charter for the Army Education Advisory Committee (hereafter referred to as the Committee).

FOR FURTHER INFORMATION CONTACT: Jim Freeman, Deputy Advisory Committee Management Officer for the Department of Defense, 703-601-6128.

SUPPLEMENTARY INFORMATION: The Committee is a discretionary Federal advisory committee that shall provide the Secretary of Defense, through the Secretary of the Army and the Chief of Staff of the U.S. Army, independent advice and recommendations on matters pertaining to the educational, doctrinal, and research policies and activities of the U.S. Army's educational programs, to include the U.S. Army's joint professional military education programs, educational policies, school curriculums, educational philosophy and objectives, program effectiveness, facilities, staff and faculty, instructional methods and other aspects of the organization and management of these programs.

The Secretary of the Army may act upon the Committee's advice and recommendations.

The Committee shall be composed of not more than fifteen members, who are eminent authorities in the field of defense, management, leadership, and academia. Committee members shall be appointed by the Secretary of Defense, and their membership shall be renewed by the Secretary of Defense on an annual basis. Committee members shall, with the exception of travel and per diem for official travel, serve without compensation, unless otherwise authorized by the Secretary of the Army.

Committee members appointed by the Secretary of Defense, who are not full-time Federal officers or employees, shall be appointed under the authority of 5 U.S.C. 3109, and serve as special government employees.

The Assistant Secretary of the Army for Manpower and Reserve Affairs or designated representative will serve as the Committee Chairperson, and shall serve at the discretion of the Secretary of the Army or designated representative. The Secretary of Defense and the Secretary of the Army or designated representative may invite other distinguished Government officers to serve as non-voting observers of the Committee. The Secretary of the Army, pursuant to DoD policies and procedures, may appoint, as deemed necessary non-voting consultants to provide special expertise to the Committee. These consultants, if not full-time or part time government employees, shall be appointed under the authority of 5 U.S.C. 3109, shall serve as special government employees, shall be appointed on an intermittent basis to work specific Committee-related efforts, and shall have no voting rights.

With DoD approval, the Committee is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or workgroups shall not work independently of the chartered Committee, and shall report all their recommendations and advice to the Committee for full deliberation and discussion. Subcommittees or workgroups have no authority to make decisions on behalf of the chartered Committee; nor can they report directly to the Department of Defense or any Federal officers or employees who are not Committee members.

Subcommittee members, who are not Committee members, shall be appointed in the same manner as the Committee members.

The Committee shall meet at the call of the Committee's Designated Federal Officer, in consultation with the Chairperson. The estimated number of Committee meetings is two per year.

The Designated Federal Officer and Alternate Designated Federal Officer, pursuant to DoD policy, shall be a full-time or permanent part-time DoD employee, and shall be appointed in accordance with established DoD policies and procedures. In addition, the Designated Federal Officer is required to be in attendance at all Committee and subcommittee meetings; however, in the absence of the Designated Federal Officer, the Alternate Designated Federal Officer shall attend the meeting.

Pursuant to 41 CFR 102-3.105(j) and 102-3.140, the public or interested organizations may submit written statements to the Army Education Advisory Committee's membership about the Committee's mission and functions. Written statements may be submitted at any time or in response to the stated agenda of planned meeting of the Army Education Advisory Committee.

All written statements shall be submitted to the Designated Federal Officer for the Army Education Advisory Committee, and this individual will ensure that the written statements are provided to the membership for their consideration. Contact information for the Army Education Advisory Committee Designated Federal Officer can be obtained from the GSA's FACA Database— https://www.fido.gov/facadatabase/public.asp.

The Designated Federal Officer, pursuant to 41 CFR 102-3.150, will announce planned meetings of the Army Education Advisory Committee. The Designated Federal Officer, at that time, may provide additional guidance on the submission of written statements that are in response to the stated agenda for the planned meeting in question.

Dated: April 27, 2010.
Mitchell S. Bryman,
Alternate OSD Federal Register Liaison Officer, Department of Defense.

[FR Doc. 2010-10123 Filed 4-29-10; 8:45 am]

BILLING CODE 5001-06-P